ENVIRONMENTAL PROTECTION AGENCY

[FRL-7273-3]

National Advisory Council on Environmental Policy and Technology (NACEPT) Superfund Subcommittee Meeting

AGENCY: Environmental Protection Agency (EPA).

ACTION: Notice; notification of public advisory NACEPT subcommittee on Superfund; open meeting.

SUMMARY: Pursuant to the Federal Advisory Committee Act, Public Law 92-463, notice is hereby given that the Superfund Subcommittee, a subcommittee of the National Advisory Council on Environmental Policy and Technology (NACEPT), will meet on the date and time described below. The meeting is open to the public. Seating will be on a first-come basis and limited time will be provided for public comment on each day.

DATES: The meeting will be held from 8:30 a.m. to 5:30 p.m. on September 23, 2002; from 8:00 a.m. to 12:15 p.m. on September 24, 2002.

ADDRESSES: The meeting will take place at the Marriott Crystal Gateway, 1700 Jefferson Davis Highway, Arlington, VA 22202.

SUPPLEMENTARY INFORMATION:

Agenda

This second meeting of the Superfund Subcommittee will involve reports from the Subcommittee's working groups about their activities since the last Subcommittee meeting in June 2002. The agenda for the meeting will be available online at http://www.epa.gov/oswer/SFsub.htm one week prior to the meeting's occurrence.

Public Attendance

The public is welcome to attend all portions of the meeting. Members of the public who plan to file written statements and/or make brief (suggested 5-minute limit) oral statements at the public sessions are encouraged to contact the Designed Federal Officer. Each day will have one public comment period.

FOR FURTHER INFORMATION CONTACT: Lois H. Gartner, Designated Federal Officer for the NACEPT Superfund Subcommittee, Office of Emergency and Remedial Response, Office of Solid Waste and Emergency Response, MC 5204G, 1200 Pennsylvania Ave., NW., Washington, DC 20460, (703) 603-9046.

Dated: August 30, 2002.
Lois H. Gartner,
Designated Federal Officer, NACEPT Superfund Subcommittee.

[FR Doc. 02-22611 Filed 9-4-02; 8:45 am]

BILLING CODE 6560-50-P